DEPARTMENT OF THE INTERIOR

Bureau of Ocean Energy Management

[OMB Control Number 1010-0006; Docket ID: BOEM-2019-0016]

Agency Information Collection Activities; 30 CFR Parts 550, 556, 560, Leasing of Sulfur or Oil and Gas in the Outer Continental Shelf

AGENCY: Bureau of Ocean Energy Management, Interior.

ACTION: Notice of information collection; request for comment.

SUMMARY: In accordance with the Paperwork Reduction Act of 1995, the Bureau of Ocean Energy Management (BOEM) is proposing to renew an information collection request.

DATES: Interested persons are invited to submit comments on or before May 31, 2019.

ADDRESSES: Send your comments on this information collection request (ICR) by mail to the BOEM Information Collection Clearance Officer, Anna Atkinson, Bureau of Ocean Energy Management, 45600 Woodland Road, Sterling, Virginia 20166; or by email to anna.atkinson@boem.gov. Please reference OMB Control Number 1010-0006 in the subject line of your comments.

FOR FURTHER INFORMATION CONTACT: To request additional information about this ICR, contact Anna Atkinson by email, or by telephone at 703-787-1025.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of BOEM; (2) Will this information be processed and used in a timely manner; (3) Is the estimate of burden accurate; (4) How might BOEM enhance the quality, utility, and clarity of the information to be collected; and (5) How might BOEM minimize the burden of this collection on the respondents, including minimizing the burden through the use of information technology?

Comments that you submit in response to this notice are a matter of public record. We will include or summarize each comment in our request to OMB for approval of this ICR. Before including your address, phone number, email address, or other personally identifiable information in your comment, you should be aware that your entire comment—including your personally identifiable information—may be made publicly available at any time. In order for BOEM to withhold from disclosure your personally identifiable information, you must identify any information contained in the submittal of your comments that, if released, would constitute a clearly unwarranted invasion of your personal privacy. You must also briefly describe any possible harmful consequences of the disclosure of information, such as embarrassment, injury, or other harm. While you can ask us in your comment to withhold your personally identifiable information from public review, we cannot guarantee that we will be able to do so.

Abstract: The information collection request concerns the paperwork requirements in the regulations under 30 CFR part 550, part 556, and part 560, Leasing of Sulfur or Oil and Gas in the Outer Continental Shelf.

The Outer Continental Shelf (OCS) Lands Act, as amended (43 U.S.C. 1331 et seq., and 43 U.S.C. 1801 et seq.), authorizes the Secretary of the Interior to prescribe rules and regulations to administer leasing of the OCS. Such rules and regulations will apply to all operations conducted under a lease. Operations on the OCS must preserve, protect, and develop oil and natural gas resources in a manner that is consistent with the need to make such resources available to meet the Nation's energy needs; balance orderly energy resource development with protection of human, marine, and coastal environments; ensure the public a fair and equitable return on the resources of the OCS; and preserve and maintain free enterprise competition. Also, the Energy Policy and Conservation Act of 1975 (EPCA) prohibits certain lease bidding arrangements (42 U.S.C. 6213(c)).

The Independent Offices Appropriations Act (31 U.S.C. 9701), the Omnibus Appropriations Act (Pub. L. 104-133, 110 Stat. 1321, April 26, 1996), and Office of Management and Budget (OMB) Circular A-25, authorize Federal agencies to recover the full cost of services that provide special benefits. Under the Department of the Interior's (DOI) implementing policy, BOEM is required to charge the full cost for services that provide special benefits or privileges to an identifiable non-Federal recipient above and beyond those that accrue to the public at large. Approval of transfer of a lease or interest are subject to cost recovery, and BOEM regulations specify the filing fee for these transfer applications.

This notice concerns the reporting and recordkeeping requirements of BOEM regulations at 30 CFR part 550, subpart J, Pipelines and Pipeline Rights-of-Way; 30 CFR part 556, Leasing of Sulphur or Oil and Gas in the OCS; 30 CFR part 560, OCS Oil and Gas Leasing; as well as the related Notices to Lessees and Operators (NTLs) that clarify and provide additional guidance on some aspects of these regulations. This ICR also concerns the use of forms to process bonds, transfer interest in leases, and file relinquishments.

BOEM protects proprietary information in accordance with the Freedom of Information Act (5 U.S.C. 552) and the Department of the Interior's implementing regulations (43 CFR part 2), and under regulations at 30 CFR 580.70 and applicable sections of 30 CFR parts 550 and 552 promulgated pursuant to Outer Continental Shelf Lands Act (OCSLA) at 43 U.S.C. 1352(c).

Title of Collection: Leasing of Sulfur or Oil and Gas in the Outer Continental Shelf (30 CFR part 550, part 556, and part 560).

OMB Control Number: 1010-0006.

Form Number:

• BOEM-0150, Assignment of Record Title Interest in Federal OCS Oil and Gas Lease,

• BOEM-0151, Assignment of Operating Rights Interest in Federal OCS Oil and Gas Lease,

• BOEM-0152, Relinquishment of Federal OCS Oil and Gas Lease,

• BOEM-2028, Outer Continental Shelf (OCS) Mineral Lessee's or Operator's Bond,

• BOEM-2028A, Outer Continental Shelf (OCS) Mineral Lessee's or Operator's Supplemental Bond, and

• BOEM-2030, Outer Continental Shelf (OCS) Pipeline Right-of-Way Grant Bond.

Type of Review: Renewal of a currently approved collection.

Respondents/Affected Public: Federal oil, gas, or sulphur lessees and/or operators.

Total Estimated Number of Annual Responses: 10,307 responses.

Total Estimated Number of Annual Burden Hours: 19,054 hours.

Respondent's Obligation: Mandatory or Required to Obtain or Retain a Benefit.

Frequency of Collection: On occasion or annual.

Total Estimated Annual Non-hour Burden Cost: $766,053.

Estimated Reporting and Recordkeeping Hour Burden: We expect the burden estimate for the renewal will be 19,054 hours, which reflects a decrease of 400 hour burdens. A reduction of 80 hours is related to respondents' submission of designation of operator form (Form BOEM-1123); this burden is now captured in OMB control number 1010-0114. And the remaining reduction of 320 hours is for activities within 30 CFR part 556, subpart B that are not considered information collection activities under 5 CFR 1320.3(h)(4), but were previously counted as information collection activities.

The following table details the individual components and respective hour burden estimates of this ICR.

Burden Table
30 CFR Part 550 Subpart J | Reporting requirement * | Hour burden | Average number of annual responses | Annual burden hours
| Non-Hour Cost Burdens
550.1011(a) | Provide surety bond (Form BOEM-2030) and required information | GOM 0.25 | 52 | 13
|  | Pacific 3.5 | 3 | 11
30 CFR 550, Subpart J, Total | 55 | 24

30 CFR Part 556 and NTLs | Reporting requirement * | Hour burden | Average number of annual responses | Annual burden hours
| Non-hour cost burdens
Subpart A
104(b) | Submit confidentiality agreement | 0.25 | 500 | 125
106 | Cost recovery/service fees; confirmation receipt | Cost recovery/service fees and associated documentation are covered under individual reqts. throughout part. |  | 0
107 | Submit required documentation electronically through BOEM-approved system; comply with filing specifications, as directed by notice in the Federal Register in accordance with 560.500 | Burden covered in 560.500. |  | 0
107 | File seals, documents, statements, signatures, etc., to establish legal status of all future submissions (paper and/or electronic) | 10 min | 400 | 67
Subtotal | 900 | 192
Subpart B
201-204 | Submit nominations, suggestions, comments, and information in response to Request for Information/Comments, draft and/or proposed 5-year leasing program, etc., including information from States/local governments, Federal agencies, industry, and others | Not considered IC as defined in 5 CFR 1320.3(h)(4). |  | 0
202-204 | Submit nominations & specific information requested in draft proposed 5-year leasing program, from States/local governments | 4 | 69 | 276
Subtotal | 69 | 276
Subpart C
301; 302 | Submit response & specific information requested in Requests for Industry Interest and Calls for Information and Nominations, etc., on areas proposed for leasing; including information from States/local governments | Not considered IC as defined in 5 CFR 1320.3(h)(4). |  | 0
302(d) | Request summary of interest (nonproprietary information) for Calls for Information/Requests for Interest, etc. | 1 | 5 | 5
305; 306 | States or local governments submit comments, recommendations, other responses on size, timing, or location of proposed lease sale. Request extension; enter agreement | 4 | 25 | 100
Subtotal | 30 | 105
Subpart D
400-402; 405 | Establish file for qualification; submit evidence/certification for lessee/bidder qualifications. Provide updates; obtain BOEM approval & qualification number | 2 | 107 | 214
403(c) | Request hearing on disqualification | Requirement not considered IC under 5 CFR 1320.3(h)(9). |  | 0
403; 404 | Notify BOEM if you or your principals are excluded, disqualified, or convicted of a crime—Federal non-procurement debarment and suspension requirements; request exception; enter transaction | 1.5 | 50 | 75
405 | Notify BOEM of all mergers, name changes, or change of business | Requirement not considered IC under 5 CFR 1320.3(h)(1). |  | 0
Subtotal | 157 | 289
Subpart E
500; 501 | Submit bids, deposits, and required information, including GDIS & maps; in manner specified. Make data available to BOEM | 5 | 2,000 | 10,000
500(e); 517 | Request reconsideration of bid decision | Requirement not considered IC under 5 CFR 1320.3(h)(9). |  | 0
501(e) | Apply for reimbursement | Burden covered in 1010-0048, 30 CFR 551. |  | 0
511(b); 517 | Submit appeal of listing on restricted joint bidders list; appeal bid decision | Requirement not considered IC under 5 CFR 1320.3(h)(9). |  | 0
513; 514 | File statement and detailed report of production. Make documents available to BOEM | 2 | 100 | 200
515 | Request exemption from bidding restrictions; submit appropriate information | Requirement not considered IC under 5 CFR 1320.3(h)(9). |  | 0
516 | File agreement on determination of lessee following BOEM's notice of tie bid | 3.5 | 2 | 7
520; 521; 600(c) | Execute lease (includes submission of evidence of authorized agent/completion and request effective date of lease); submit required data and rental | 1 | 852 | 852
520(b) | Provide acceptable bond for payment of a deferred bonus | 0.25 | 1 | 1
Subtotal | 2,955 | 11,060
Subparts F, G, H
Subpart F, G, H | References to requests of approval for various operations or submit plans or applications. Burden included with other approved collections for BOEM 30 CFR 550 (Subpart A 1010-0114; Subpart B 1010-0151) and for BSEE 30 CFR 250 (Subpart A 1014-0022; Subpart D 1014-0018) |  |  | 0
701(c); 716(b); 801(b); 810(b) | Submit new designation of operator (Form BOEM-1123) | Burden covered in 1010-0114. |  | 0
700-716 | File application and required information for assignment/transfer of record title/lease interest (Form BOEM-0150) (includes sale, sublease, segregation exchange, transfer); request effective date/confidentiality; provide notifications | 1 | 1,414 | 1,414
|  | $198 fee x 1,414 forms = $279,972.
715(a); 808(a) | File required instruments creating or transferring working interests, etc., for record purposes | 1 | 2,369 | 2,369
|  | $29 fee x 2,369 filings = $68,701.
715(b); 808(b) | Submit “non-required” documents, for record purposes that respondents want BOEM to file with the lease document. (Accepted on behalf of lessees as a service; BOEM does not require nor need them.) | $29 fee x 11,518 filings = $334,022.
800-810 | File application and required information for assignment/transfer of operating interest (Form BOEM-0151) (includes sale, sublease, segregation exchange, severance, transfer); request effective date; provide notifications | 1 | 421 | 421
|  | $198 fee x 421 forms = $83,358.
Subtotal | 4,204 | 4,204
| $766,053
Subpart I
900(a)-(e); 901; 902; 903(a) | Submit OCS Mineral Lessee's and Operator's Bond (Form BOEM-2028); execute bond | 0.33 | 135 | 45
900(c), (d), (f), (g); 901(c), (d), (f); 902(e) | Demonstrate financial worth/ability to carry out present and future financial obligations, request approval of another form of security, or request reduction in amount of supplemental bond required on BOEM-approved forms. Monitor and submit required information | 3.5 | 166 | 581
900(e); 901; 902; 903(a) | Submit OCS Mineral Lessee's and Operator's Supplemental Plugging & Abandonment Bond (Form BOEM-2028A); execute bond | 0.25 | 141 | 35
900(f), (g) | Submit authority for Regional Director to sell Treasury or alternate type of securities | 2 | 12 | 24
901 | Submit EP, DPP, DOCDs | IC burden covered in 1010-0151, 30 CFR 550, Subpart B. |  | 0
901(f) | Submit oral/written comment on adjusted bond amount and information | Requirement not considered IC under 5 CFR 1320.3(h)(9). |  | 0
903(b) | Notify BOEM of any lapse in bond coverage/action filed alleging lessee, surety, or guarantor is insolvent or bankrupt | 1 | 4 | 4
904 | Provide plan/instructions to fund lease-specific abandonment account and related information; request approval to withdraw funds | 12 | 2 | 24
905 | Provide third-party guarantee, indemnity agreement, financial and required information, related notices, reports, and annual update; notify BOEM if guarantor becomes unqualified | 19 | 46 | 874
905(d)(3); 906 | Provide notice of and request approval to terminate period of liability, cancel bond, or other security; provide required information | 0.5 | 378 | 189
907(c)(2) | Provide information to demonstrate lease will be brought into compliance | 16 | 5 | 80
Subtotal | 889 | 1,856
Subpart K
1101 | Request relinquishment (Form BOEM-0152) of lease; submit required information | 1 | 247 | 247
1102 | Request additional time to bring lease into compliance | 1 | 1 | 1
1102(c) | Comment on cancellation | Requirement not considered IC under 5 CFR 1320.3(h)(9). |  | 0
Subtotal | 248 | 248
30 CFR 556 Total |  |  | 9,452 | 18,230
|  |  | $766,053 Non-Hour Cost Burdens

30 CFR 560 | Reporting requirement * | Hour burden | Average number of annual responses | Annual burden hours
560.224(a) | Request BOEM to reconsider field assignment of a lease | Requirement not considered IC under under 5 CFR 1320.3(h)(9).
560.500 | Submit required documentation electronically through BOEM-approved system; comply with filing specifications, as directed by notice in the Federal Register (e.g., bonding info.) | 1 | 800 | 800
30 CFR 560 Total | 800 | 800
Total Reporting for Collection | 10,307 | 19,054
| $766,053 non-hour cost burdens.
* In the future, BOEM may require electronic filing of certain submissions.

An agency may not conduct or sponsor, and a person is not required to respond to, a collection of information unless it displays a currently valid OMB control number.

The authority for this action is the Paperwork Reduction Act of 1995 (44 U.S.C. 3501 et seq.).

Deanna Meyer-Pietruszka,
Chief, Office of Policy, Regulation, and Analysis.

[FR Doc. 2019-06219 Filed 3-29-19; 8:45 am]

BILLING CODE 4310-MR-P